DEPARTMENT OF HOMELAND SECURITY

U.S. Citizenship and Immigration Services

[CIS No. 2755-23; DHS Docket No. USCIS-2022-0004]

RIN 1615-ZB94

Extension and Redesignation of Afghanistan for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Afghanistan for Temporary Protected Status (TPS) for 18 months, beginning on November 21, 2023, and ending on May 20, 2025. This extension allows existing TPS beneficiaries to retain TPS through May 20, 2025, so long as they otherwise continue to meet the eligibility requirements for TPS. Existing TPS beneficiaries who wish to extend their status through May 20, 2025, must re-register during the 60-day re-registration period described in this notice. The Secretary is also redesignating Afghanistan for TPS. The redesignation of Afghanistan allows additional Afghan nationals (and individuals having no nationality who last habitually resided in Afghanistan) who have been continuously residing in the United States since September 20, 2023, to apply for TPS for the first time during the initial registration period described under the redesignation information in this notice. In addition to demonstrating continuous residence in the United States since September 20, 2023, and meeting other eligibility criteria, initial applicants for TPS under this designation must demonstrate that they have been continuously physically present in the United States since November 21, 2023, the effective date of this redesignation of Afghanistan for TPS.

DATES:

Extension of Designation of Afghanistan for TPS: The 18-month designation of Afghanistan for TPS begins on November 21, 2023, and will remain in effect for 18 months, ending on May 20, 2025. The extension impacts existing beneficiaries of TPS.

Re-Registration: The 60-day re-registration period for existing beneficiaries runs from September 25, 2023 through November 24, 2023. (Note: It is important for re-registrants to timely re-register during the registration period and not to wait until their Employment Authorization Documents (EADs) expire, as delaying reregistration could result in gaps in their employment authorization documentation.)

Redesignation of Afghanistan for TPS: The 18-month redesignation of Afghanistan for TPS begins on November 21, 2023, and will remain in effect for 18 months, ending on May 20, 2025. The redesignation impacts potential first-time applicants and others who do not currently have TPS.

First-time Registration: The initial registration period for new applicants under the Afghanistan TPS redesignation begins on September 25, 2023 and will remain in effect through May 20, 2025.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Afghanistan's TPS designation by selecting Afghanistan from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS sets forth procedures necessary for nationals of Afghanistan (or individuals having no nationality who last habitually resided in Afghanistan) to (1) re-register for TPS and to apply for renewal of their EADs with USCIS or (2) submit an initial registration application under the redesignation and apply for an EAD.

Re-registration is limited to individuals who have previously registered for TPS under the prior designation of Afghanistan and whose applications have been granted. Failure to re-register properly within the 60-day re-registration period may result in the withdrawal of your TPS following appropriate procedures. See 8 CFR 244.14.

For individuals who have already been granted TPS under Afghanistan's designation, the 60-day re-registration period runs from September 25, 2023 through November 24, 2023. USCIS will issue new EADs with a May 20, 2025, expiration date to eligible Afghan TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Afghanistan through November 20, 2024. Therefore, as proof of continued employment authorization through November 20, 2024, TPS beneficiaries can show their EADs that have the notation A-12 or C-19 under Category and a “Card Expires” date of November 20, 2023. This notice explains how TPS beneficiaries and their employers may determine which EADs are automatically extended and how this affects the Form I-9, Employment Eligibility Verification, E-Verify, and USCIS Systematic Alien Verification for Entitlements (SAVE) processes.

Individuals who have an Afghanistan TPS application (Form I-821) and/or Application for Employment Authorization (Form I-765) that was still pending as of September 25, 2023 do not need to file either application again. If USCIS approves an individual's pending Form I-821, USCIS will grant the individual TPS through May 20, 2025. Similarly, if USCIS approves a pending TPS-related Form I-765, USCIS will issue the individual a new EAD that will be valid through the same date. There are approximately 3,100 beneficiaries under Afghanistan's TPS designation.

Under the redesignation, individuals who currently do not have TPS may submit an initial application during the initial registration period that runs from September 25, 2023 and runs through the full length of the redesignation period ending May 20, 2025. In addition to demonstrating continuous residence in the United States since September 20, 2023, and meeting other eligibility criteria, initial applicants for TPS under this redesignation must demonstrate that they have been continuously physically present in the United States since November 21, 2023,¹ the effective date of this redesignation of Afghanistan, before USCIS may grant them TPS. DHS estimates that approximately 14,600 individuals may become newly eligible for TPS under the redesignation of Afghanistan.

¹ The “continuous physical presence date” (CPP) is the effective date of the most recent TPS designation of the country, which is either the publication date of the designation announcement in the Federal Register or such later date as the Secretary may establish. The “continuous residence date” (CR) is any date established by the Secretary when a country is designated (or sometimes redesignated) for TPS. See INA sec. 244(b)(2)(A) (effective date of designation); 244(c)(1)(A)(i-ii) (CR and CPP date requirements); 8 U.S.C. 1254a(b)(2)(A); 1254a(c)(1)(A)(i-ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Afghanistan designated for TPS?

Afghanistan was initially designated on the basis of ongoing armed conflict and extraordinary and temporary conditions in Afghanistan that prevented nationals of Afghanistan from returning in safety. See Designation of Afghanistan for Temporary Protected Status, 87 FR 30976 (May 20, 2022).

What authority does the Secretary have to extend the designation for Afghanistan for TPS?

Section 244(b)(1) of the INA, 8 U.S.C. 1254a(b)(1), authorizes the Secretary, after consultation with appropriate agencies of the U.S. Government, to designate a foreign state (or part thereof) for TPS if the Secretary determines that certain country conditions exist.² The decision to designate any foreign state (or part thereof) is a discretionary decision, and there is no judicial review of any determination with respect to the designation, termination, or extension of a designation. See INA sec. 244(b)(5)(A), 8 U.S.C. 1254a(b)(5)(A).³ The Secretary, in his or her discretion, may then grant TPS to eligible nationals of that foreign state (or individuals having no nationality who last habitually resided in the designated foreign state). See INA sec. 244(a)(1)(A), 8 U.S.C. 1254a(a)(1)(A).

² INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

³ This issue of judicial review is the subject of litigation. See, e.g., Ramos v. Wolf, 975 F.3d 872 (9th Cir. 2020), petition for en banc rehearing granted Feb. 10, 2023 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Afghanistan for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).⁴

⁴ The extension and redesignation of TPS for Afghanistan is one of several instances in which the Secretary and, prior to the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Afghanistan shall be September 20, 2023. Initial applicants for TPS under this redesignation must also show they have been “continuously physically present” in the United States since November 21, 2023, which is the effective date of the Secretary's redesignation of Afghanistan. See INA sec. 244(c)(1)(A)(i), 8 U.S.C. 1254a(c)(1)(A)(i). For each initial TPS application filed under the redesignation, the final determination of whether the applicant has met the “continuous physical presence” requirement cannot be made until November 21, 2023, the effective date of this redesignation for Afghanistan. USCIS, however, will issue employment authorization documentation, as appropriate, during the registration period in accordance with 8 CFR 244.5(b).

Why is the Secretary extending the TPS designation for Afghanistan and simultaneously redesignating Afghanistan for TPS through May 20, 2025?

DHS has reviewed country conditions in Afghanistan. Based on the review, including input received from DOS and other U.S. Government agencies, the Secretary has determined that an 18-month TPS extension is warranted because ongoing armed conflict and extraordinary and temporary conditions supporting Afghanistan's TPS designation remain. The Secretary has further determined that redesignating Afghanistan for TPS under INA section 244(b)(3)(C), 8 U.S.C. 1254a(b)(3)(C) is warranted and is changing the “continuous residence” and “continuous physical presence” dates that applicants must meet to be eligible for TPS.

Overview

Since the August 2021 Taliban takeover of Afghanistan, armed conflict and insurgency continue to cause insecurity and widespread harm throughout the country.⁵ The U.S. Department of State describes ongoing human rights abuses, widespread disregard for law, and a climate of fear of retribution against those who are perceived to oppose the Taliban.⁶ The Taliban continue to be viewed as both ill-equipped and unwilling to meet the country's numerous challenges including the current security situation, economic insecurity, and respect for human rights.⁷ The World Bank described the situation in Afghanistan as “grim,” finding significant instability in food security, healthcare, and general welfare for women and girls.⁸ Ongoing armed conflict in Afghanistan also poses a serious threat to the safety of nationals returning to Afghanistan. Extraordinary and temporary conditions, including lack of access to food, clean water, and healthcare, as well as destroyed infrastructure, internal displacement, and economic instability continue to prevent Afghan nationals from returning to their homeland in safety.

⁵ U.S. Department of State, 2022 Country Report on Human Rights Practices: Afghanistan, Mar. 20, 2023, available at: https://www.ecoi.net/en/document/2089060.html (last visited: June 8, 2023).

⁶ U.S. Department of State, 2022 Country Report on Human Rights Practices: Afghanistan, Mar. 20, 2023, available at: https://www.ecoi.net/en/document/2089060.html (last visited: June 8, 2023).

⁷ Lindsay Maizland, The Taliban in Afghanistan, Council on Foreign Relations (CFR), Jan. 19, 2023, available at: https://www.cfr.org/backgrounder/taliban-afghanistan (last visited: May 5, 2023).

⁸ The World Bank, World Bank Survey: Living Conditions Remain Dire for the Afghan People, Nov. 22, 2022, available at: https://www.worldbank.org/en/news/press-release/2022/11/22/world-bank-survey-living-conditions-remain-dire-for-the-afghan-people (last visited: June 8, 2023).

Scale and Impact of Conflict

While overall violent conflict has decreased since the Taliban takeover of Afghanistan, armed conflict continues between the Taliban and the Islamic State in Khorasan Province (ISKP), and violence by the Taliban and the ISKP against the general population persists.⁹ ISKP is a U.S. designated terrorist group and transnational affiliate of the Islamic State militant group that seeks to control Central and South Asia to establish a caliphate.¹⁰ It is engaged in armed conflict with the Taliban, and continues to conduct attacks against Taliban fighters, civilians, and protected sites, including mosques.¹¹ The Taliban continue to fight ISKP in the east and north.¹² ISKP, an Islamic State affiliate active since approximately 2014, continues to pose a risk to security and safety in Afghanistan.¹³ Since August 2021, ISKP has rejected Taliban legitimacy and escalated attacks against them across the country.¹⁴ In mid-2022, ISKP conducted multiple attacks on primarily civilian targets in Kunduz and Mazar-i-Sharif.¹⁵ Within Afghanistan, ISKP attacks are mostly aimed at Taliban targets and minority groups, especially Hazaras.¹⁶ While ISKP does not control territory in Afghanistan, their recent escalation of attacks contributes to the ongoing security crisis in the country.¹⁷

⁹ International Crisis Group, Afghanistan's Security Challenges under the Taliban, Aug. 12, 2022, available at: https://www.crisisgroup.org/asia/south-asia/afghanistan/afghanistans-security-challenges-under-taliban (last visited May 6, 2023); Human Rights Watch, World Report 2023—Afghanistan, Jan. 12, 2023, available at: https://www.ecoi.net/en/document/2085369.html (last visited: June 8, 2023).

¹⁰ See U.S. Dep't. of State, Foreign Terrorist Organizations, Bureau of Counterterrorism, available at https://www.state.gov/foreign-terrorist-organizations/ (last visited Sept. 18, 2023); U.S. Dep't. of State, 2022 Report on International Religious Freedom: Afghanistan, May 15, 2023, available at https://www.state.gov/reports/2022-report-on-international-religious-freedom/afghanistan/ (last visited Sept. 18, 2023); European Union Agency for Asylum, 1.4 Islamic State Khorasan Province ISKP), available at https://euaa.europa.eu/country-guidance-afghanistan-2022/14-islamic-state-khorasan-province-iskp (last visited Sept. 18, 2023).

¹¹ U.S. Dep't. of State, 2022 Report on International Religious Freedom: Afghanistan, May 15, 2023, available at https://www.state.gov/reports/2022-report-on-international-religious-freedom/afghanistan/ (last visited Sept. 18, 2023); Eliza Mackintosh, Ehsan Popalzai, Antonio Jarne and Lou Robinso, ‘No one feels safe”: The Taliban promised to provide security to Afghans. New data shows threat from ISIS is growing, CNN, May 19, 2023, available at https://www.cnn.com/2023/05/19/asia/isis-k-attacks-afghanistan-taliban-cmd-intl/index.html (last visited Sept. 18, 2023).

¹² International Crisis Group, Afghanistan's Security Challenges under the Taliban, Aug. 12, 2022, available at: https://www.crisisgroup.org/asia/south-asia/afghanistan/afghanistans-security-challenges-under-taliban (last visited May 6, 2023); Human Rights Watch, World Report 2023—Afghanistan, Jan. 12, 2023, available at: https://www.ecoi.net/en/document/2085369.html (last visited: June 8, 2023).

¹³ Austrian Centre for Country of Origin and Asylum Research and Documentation, Ecoi.net Featured Topic on Afghanistan: Overview of recent developments and key players in Afghanistan, May 17, 2023, available at: https://www.ecoi.net/en/document/2092065.html (last visited: June 9, 2023).

¹⁴ European Union Agency for Asylum, Afghanistan Security Information, Jan. 2023, available at: https://coi.euaa.europa.eu/administration/easo/PLib/2022_08_EUAA_COI_Report_Afghanistan_Security_situation.pdf (last visited: June 9, 2023).

¹⁵ European Union Agency for Asylum, Afghanistan Security Information, Jan. 2023, available at: https://coi.euaa.europa.eu/administration/easo/PLib/2022_08_EUAA_COI_Report_Afghanistan_Security_situation.pdf (last visited: June 9, 2023).

¹⁶ European Union Agency for Asylum, Afghanistan Security Information, Jan. 2023, available at: https://coi.euaa.europa.eu/administration/easo/PLib/2022_08_EUAA_COI_Report_Afghanistan_Security_situation.pdf (last visited: June 9, 2023); Michael Kugelman, How Dangerous is the Islamic State-Khorasan?, Foreign Policy, Mar. 23, 2023, available at: https://foreignpolicy.com/2023/03/23/afghanistan-islamic-state-khorasan-centcom-warning-threat/ (last visited: June 9, 2023).

¹⁷ European Union Agency for Asylum, Afghanistan Security Information, Jan. 2023, available at: https://coi.euaa.europa.eu/administration/easo/PLib/2022_08_EUAA_COI_Report_Afghanistan_Security_situation.pdf (last visited: June 9, 2023).

Human Rights Abuses

Since the Taliban takeover of Afghanistan, they have struggled to stabilize the country and, in an effort to exert control, they imposed their interpretation of sharia law, enacted harsh punishments against the population, and undermined the enjoyment of human rights.¹⁸

¹⁸ Amnesty International, Amnesty International Report 2022/23; The State of the World's Human Rights; Afghanistan 2022, Mar. 27, 2023, available at: https://www.ecoi.net/en/document/2089394.html (last visited June 9, 2023).

The human rights situation in Afghanistan was recently described as a worsening crisis, with the United Nations Special Rapporteur on the situation of human rights in Afghanistan encouraging the International Criminal Court (ICC) to “take note of the unprecedented deterioration of women's rights . . . and that the Prosecutor consider the crime of gender persecution in Afghanistan.¹⁹ Resistance to the Taliban has led to an aggressive response from the Taliban, including summary killings, disappearances, information blackouts, and physical abuse.²⁰ Afghanistan under the Taliban remains extremely repressive, particularly with respect to the meaningful participation of women in all aspects of public and private life and the exercise of freedom of religion or belief. Gender-based violence, including sexual violence against women and girls, occurs regularly.²¹ Hazaras, members of an ethnic and religious minority, have experienced harm in the form of forcible evictions, threats, physical harm, and attacks on religious institutions and education centers.²² In September 2022, Human Rights Watch reported that attacks on members of the Hazara community are “systematic in nature and reflect elements of an organizational policy.” ²³ Former employees of the prior Afghan government also continue to face reprisals. Human Rights Watch reported on the killings and disappearances of 47 members of the Afghan National Security Forces (ANSF) in late 2022 and the U.N. found that family members of former Afghan security forces were also targeted by elements of the Taliban.²⁴ The Taliban have arrested activists and journalists who criticized them on media platforms and raided offices of nongovernmental organizations.²⁵ Human rights abuses against perceived opponents have been particularly violent after protests, with the Taliban using live ammunition, whips, and electroshock weapons to disperse crowds.²⁶

¹⁹ UNHCR, A/HRC/52/84: Situation of human rights in Afghanistan—Report of the Special Rapporteur on the situation of human rights in Afghanistan, Richard Bennett, Feb. 09, 2023, available at: https://www.ohchr.org/en/documents/country-reports/ahrc5284-situation-human-rights-afghanistan-report-special-rapporteur (last visited: June 9, 2023).

²⁰ Austrian Centre for Country of Origin and Asylum Research and Documentation, Ecoi.net Featured Topic on Afghanistan: Overview of recent developments and key players in Afghanistan, May 17, 2023, available at: https://www.ecoi.net/en/document/2092065.html (last visited: June 9, 2023).

²¹ Fereshta Abbasi, What are the main challenges to women and girls' rights in Afghanistan?, Human Rights Watch, Mar. 9, 2023, available at: https://apnews.com/article/taliban-afghanistan-women-rights-united-nations-591c39436d53f83e5a0c423c5e06891c (last visited: May 12, 2023); UNHCR, A/HRC/52/84: Situation of human rights in Afghanistan—Report of the Special Rapporteur on the situation of human rights in Afghanistan, Richard Bennett, Feb. 09, 2023, available at: https://www.ohchr.org/en/documents/country-reports/ahrc5284-situation-human-rights-afghanistan-report-special-rapporteur (last visited: June 9, 2023).

²² U.S. Department of State, 2022 Report on International Religious Freedom: Afghanistan, May 15, 2023, available at: https://www.ecoi.net/en/document/2091855.html (last visited: June 9, 2023).

²³ Human Rights Watch, Afghanistan: ISIS Group Targets Religious Minorities, Sept. 6, 2022, available at https://www.hrw.org/news/2022/09/06/afghanistan-isis-group-targets-religious-minorities (last visited August 21, 2023).

²⁴ Austrian Centre for Country of Origin and Asylum Research and Documentation, Ecoi.net Featured Topic on Afghanistan: Overview of recent developments and key players in Afghanistan, May 17, 2023, available at: https://www.ecoi.net/en/document/2092065.html (last visited: June 9, 2023).

²⁵ European Union Agency for Asylum, Country Guidance: Afghanistan; January 2023, Jan. 2023, Available at: https://www.ecoi.net/en/file/local/2086795/2023_Country_Guidance_Afghanistan_EN.pdf (last visited: June 9, 2023).

²⁶ European Union Agency for Asylum, Country Guidance: Afghanistan; January 2023, Jan. 2023, Available at: https://www.ecoi.net/en/file/local/2086795/2023_Country_Guidance_Afghanistan_EN.pdf (last visited: June 9, 2023).

Humanitarian Situation

The humanitarian situation in Afghanistan is dire, with 15 million people facing acute food insecurity, as well as limited access to clean water and healthcare, destruction of infrastructure, and economic instability.²⁷ As a result of the Taliban takeover and ongoing violence, internal displacement has also skyrocketed in Afghanistan.²⁸ Afghanistan is currently experiencing one of the world's worst humanitarian disasters, with more than two thirds of the population, 29.2 million people, requiring humanitarian assistance.²⁹ The U.N. World Food Programme found that Afghanistan is at “the highest risk of famine in a quarter of a century, with half of all families living in crisis-coping mode” and since August 2022, “nine out of 10 Afghan families cannot afford enough food—the highest in the world.” ³⁰ In addition, a recent Whole of Afghanistan Assessment found that 79 percent of households lack enough water for daily needs.³¹ Afghanistan's healthcare system is currently struggling and hospitals that are still functioning do so with few supplies and massive staff shortages, as many medical personnel have fled the unstable country and previously provided development assistance in the healthcare sector has been suspended since the Taliban takeover.³² The Taliban targeted attacks at vital infrastructure, including power stations, roads, and cell phone towers, and since the suspension of international support, civilian infrastructure maintenance has deteriorated.³³ More than 1.6 million Afghans fled the country since 2021, with Iran and Pakistan hosting 85 percent of displaced Afghans.³⁴ There are also approximately 3.25 million internally displaced persons (IDPs) due to conflict and violence.³⁵ Economic instability has added to the deepening humanitarian crisis in Afghanistan. Due to the economic collapse, high inflation, and difficulty in finding stable jobs, an estimated 1 million children are working in Afghanistan, a number that soared since the Taliban takeover.³⁶ This ongoing humanitarian crisis is an extraordinary and temporary condition that makes it difficult for Afghan nationals to safely return to their country.

²⁷ Human Rights Watch, Afghanistan: Economic Roots of the Humanitarian Crisis, Mar. 1, 2022, available at: https://www.hrw.org/news/2022/03/01/afghanistan-economic-roots-humanitarian-crisis (last visited: June 9, 2023); World Food Programme, WFP Afghanistan; Situation Report; 31 July, 2023, July 31, 2023, available at: https://reliefweb.int/attachments/bb0a5390-5198-4194-b87d-c8a78cd42e22/20230524%20AFG%20External% 20Sitrep.pdf (last visited: Sept. 15, 2023).

²⁸ Internal Displacement Monitoring Centre, Country Profile: Afghanistan, May 24, 2023, available at: https://www.internal-displacement.org/countries/afghanistan (last visited: June 9, 2023).

²⁹ Human Rights Watch, Hard Choices in Afghanistan's Humanitarian Crisis, May 15, 2023, available at: https://www.hrw.org/news/2023/05/15/hard-choices-afghanistans-humanitarian-crisis#:~:text=Afghanistan%20has%20largely% 20disappeared%20from,girls%20remain%20most%20at%20risk. (last visited: June 9, 2023); ReliefWeb, Funding drought forces UN food agency to cut rations in Afghanistan, Mar. 17, 2023, available at: https://reliefweb.int/report/afghanistan/funding-drought-forces-un-food-agency-cut-rations-afghanistan (last visited: May 12, 2023); UN OCHA, Revised Humanitarian Response Plan, June 12, 2023, available at https://reliefweb.int/report/afghanistan/afghanistan-revised-humanitarian-response-plan-jun-dec-2023 (last visited Sept. 15, 2023).

³⁰ ReliefWeb, Funding drought forces UN food agency to cut rations in Afghanistan, Mar. 17, 2023, available at: https://reliefweb.int/report/afghanistan/funding-drought-forces-un-food-agency-cut-rations-afghanistan (last visited: May 12, 2023).

³¹ ReliefWeb, Afghanistan: Drought—2021-2023, 2021-2023, available at: https://reliefweb.int/disaster/dr-2021-000022-afg (last visited: June 9, 2023).

³² Ngoe Phuong Hong Tao, et al., Healthcare collapse in Afghanistan due to political crises, natural catastrophes, and dearth of international aid post-COVID, Jan. 11, 2023, Journal of Global Health, available at: https://jogh.org/2023/jogh-13-03003 (last visited: June 9, 2023).

³³ Statement on Continuation of Assassinations, Kidnappings, and Destruction of Vital Infrastructure, US Embassy in Afghanistan, Jan. 31, 2021, available at: https://af.usembassy.gov/statement-on-continuation-of-assassinations-kidnappings-and-destruction-of-vital-infrastructure/ (last visited: June 9, 2023); UN Office for the Coordination of Humanitarian Affairs, Afghanistan: ICCT Winter Prioritisation—December 2022 (Issued 16 January 2023), Jan. 17, 2023, available at: https://reliefweb.int/attachments/1d506d5a-3624-4768-87ac-5bc51329b9b3/2023%20ICCT%20Winter%20Prioritisation%20Report_Q1_fn_160123.pdf (last visited: June 9, 2023).

³⁴ UNHCR, Afghanistan Humanitarian Crisis, available at: https://www.unrefugees.org/emergencies/afghanistan/ (last visited: June 9, 2023).

³⁵ UNHCR, Afghanistan Situation update—1 August 2023, Aug.30, 2023, available at https://data.unhcr.org/en/documents/details/103085 (last visited Sept. 15, 2023).

³⁶ Radio Free Europe/Radio Liberty, ‘Life Of Toil': Growing Number Of Starving Afghan Families Send Children To Work, May 17, 2023, available at: https://www.ecoi.net/en/document/2092100.html (last visited: June 9, 2023).

In summary, the August 2021 Taliban takeover of Afghanistan has led to significant civilian casualties, ongoing armed conflict between armed groups that continue to fight for power, and an extensive record of repressive policies and human rights abuses against women and girls, members of minority groups, and perceived opponents of the Taliban. This ongoing armed conflict and instability have contributed to a grave humanitarian crisis, including mass displacement, food and water insecurity, lack of access to healthcare, and a fragile economic situation.

Based upon this review and after consultation with appropriate U.S. Government agencies, the Secretary has determined that:

• The conditions supporting Afghanistan's designation for TPS continue to be met. See INA sec. 244(b)(3)(A) and (C), 8 U.S.C. 1254a(b)(3)(A) and (C).

• There continues to be an ongoing armed conflict in Afghanistan and, due to such conflict, requiring the return to Afghanistan of Afghan nationals (or individuals having no nationality who last habitually resided in Afghanistan) would pose a serious threat to their personal safety. See INA sec. 244(b)(1)(A), 8 U.S.C. 1254a(b)(1)(A).

• There continue to be extraordinary and temporary conditions in Afghanistan that prevent Afghan nationals (or individuals having no nationality who last habitually resided in Afghanistan) from returning to Afghanistan in safety, and it is not contrary to the national interest of the United States to permit Afghan TPS beneficiaries to remain in the United States temporarily. See INA sec. 244(b)(1)(C), 8 U.S.C. 1254a(b)(1)(C).

• The designation of Afghanistan for TPS should be extended for an 18-month period, beginning on November 21, 2023, and ending on May 20, 2025. See INA sec. 244(b)(3)(C), 8 U.S.C. 1254a(b)(3)(C).

• Due to the conditions described above, Afghanistan should be simultaneously extended and redesignated for TPS beginning on November 21, 2023, and ending on May 20, 2025. See INA 244(b)(1)(A) and (C) and (b)(2), 8 U.S.C. 1254a(b)(1)(A) and (C) and (b)(2).

• For the redesignation, the Secretary has determined that TPS applicants must demonstrate that they have continuously resided in the United States since September 20, 2023.

• Initial TPS applicants under the redesignation must demonstrate that they have been continuously physically present in the United States since November 21, 2023, the effective date of the redesignation of Afghanistan for TPS.

• There are approximately 3,100 current Afghan TPS beneficiaries who are eligible to re-register for TPS under the extension.

• It is estimated that approximately 14,600 additional individuals may be eligible for TPS under the redesignation of Afghanistan. This population includes Afghan nationals in the United States in nonimmigrant status or without immigration status.

Notice of the Designation of Afghanistan for TPS

By the authority vested in me as Secretary under INA section 244, 8 U.S.C. 1254a, I have determined, after consultation with the appropriate U.S. Government agencies, the statutory conditions supporting Afghanistan's designation for TPS on the basis of ongoing armed conflict and extraordinary and temporary conditions are met and it is not contrary to the national interest of the United States to permit Afghan TPS beneficiaries to remain in the United States temporarily. See INA sec. 244(b)(1)(A) and (C), 8 U.S.C. 1254a(b)(1)(A) and (C). On the basis of this determination, I am simultaneously extending the existing designation of Afghanistan for TPS for 18 months, beginning on November 21, 2023, and ending on May 20, 2025, and redesignating Afghanistan for TPS for the same 18-month period. See INA sec. 244(b)(1)(A) and (C) and (b)(2); 8 U.S.C. 1254a(b)(1)(A) and (C), and (b)(2).

Alejandro N. Mayorkas,
Secretary, U.S. Department of Homeland Security.

Eligibility and Employment Authorization for TPS

Required Application Forms and Application Fees To Register or Re-Register for TPS

To register for TPS based on the designation of Afghanistan, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are eligible for an Employment Authorization Document (EAD), which proves their authorization to work in the United States. You are not required to submit Form I-765, Application for Employment Authorization, or have an EAD to be granted TPS, but see below for more information if you want an EAD to use as proof that you can work in the United States.

Individuals who have an Afghanistan TPS application (Form I-821) that was still pending as of September 25, 2023 do not need to file the application again. If USCIS approves an individual's Form I-821, USCIS will grant the individual TPS through May 20, 2025.

For more information on the application forms and fees for TPS, please visit the USCIS TPS web page at https://www.uscis.gov/tps. Fees for the Form I-821, the Form I-765, and biometric services are also described in 8 CFR 103.7(b)(1) (Oct. 1, 2020). In addition, the form instructions for the Form I-821 and Form I-765 provide further information on requirements and fees for both initial TPS applicants and existing TPS beneficiaries who are re-registering.

How can TPS beneficiaries obtain an Employment Authorization Document (EAD)?

Everyone must provide their employer with documentation showing that they have the legal right to work in the United States. TPS beneficiaries are eligible to obtain an EAD, which proves their legal right to work. Those who want to obtain an EAD must file a Form I-765 and pay the Form I-765 fee (or request a fee waiver, which you may submit on Form I-912, Request for Fee Waiver). TPS applicants may file this form along with their TPS application, or at a later date, provided their TPS application is still pending or has been approved. Beneficiaries with an Afghan TPS-related Form I-765 that was still pending as of September 25, 2023 do not need to file the application again. If USCIS approves a pending TPS-related Form I-765, USCIS will issue the individual a new EAD that will be valid through May 20, 2025.

Refiling an Initial TPS Registration Application After Receiving a Denial of a Fee Waiver Request

If USCIS denies your fee waiver request, you can resubmit your TPS application. The fee waiver denial notice will contain specific instructions about resubmitting your application.

Filing Information

USCIS offers the option to applicants for TPS under Afghanistan's designation to file Form I-821 and related requests for EADs online or by mail. However, if you request a fee waiver, you must submit your application by mail. When filing a TPS application, applicants can also request an EAD by submitting a completed Form I-765, with their Form I-821.

Online filing: Forms I-821 and I-765 are available for concurrent filing online.³⁷ To file these forms online, you must first create a USCIS online account.³⁸

³⁷ Find information about online filing at “Forms Available to File Online,” https://www.uscis.gov/file-online/forms-available-to-file-online.

³⁸ https://myaccount.uscis.gov/users/sign_up.

Mail filing: Mail your application for TPS to the proper address in Table 1.

Table 1—Mailing Addresses

Mail your completed Form I-821, Application for Temporary Protected Status; Form I-765, Application for Employment Authorization; Form I-912, Request for Fee Waiver (if applicable); and supporting documentation to the proper address in Table 1.

Table 1—Mailing Addresses
Alaska American Samoa Arizona California | U.S. Postal Service (USPS): USCIS, Attn: TPS Afghanistan, P.O. Box 20300, Phoenix, AZ 85036-0300. FedEx, UPS, and DHL deliveries: USCIS, Attn: TPS Afghanistan (Box 20300), 2108 E Elliot Rd., Tempe, AZ 85284-1806.
Colorado
Guam
Hawaii
Idaho
Kansas
Montana
Nebraska
Nevada
New Mexico
North Dakota
Northern Mariana Islands
Oklahoma
Oregon
Puerto Rico
South Dakota
Texas
U.S. Virgin Islands
Utah
Washington
Wyoming
Alabama Arkansas Connecticut Delaware District of Columbia | U.S. Postal Service (USPS): USCIS, Attn: TPS Afghanistan, P.O. Box 805282, Chicago, IL 60680-5285. FedEx, UPS, and DHL deliveries: USCIS, Attn: TPS Afghanistan (Box 805282), 131 South Dearborn—3rd Floor, Chicago, IL 60603-5517.
Florida
Georgia
Illinois
Indiana
Iowa
Kentucky
Louisiana
Maine
Maryland
Massachusetts
Michigan
Minnesota
Mississippi
Missouri
New Hampshire
New Jersey
New York
North Carolina
Ohio
Pennsylvania
Rhode Island
South Carolina
Tennessee
Vermont
Virginia
West Virginia
Wisconsin

If you were granted TPS by an immigration judge (IJ) or the Board of Immigration Appeals (BIA) and you wish to request an EAD, please file online or mail your Form I-765 application to the appropriate mailing address in Table 1. If filing online, please include the fee. If filing by mail, please include the fee or fee waiver request. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Afghanistan”.

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing Form I-131, you must:

• Select Item Number 1.d. in Part 2 on the Form I-131; and

• Submit the fee for Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797 or I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797 or I-797C) showing we accepted or approved your Form I-821 | USCIS, Attn: I-131 TPS, 2501 S. State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. If necessary, you may be required to visit an Application Support Center to have your biometrics captured. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through November 20, 2024, through this Federal Register notice?

Yes. Regardless of your country of birth, provided that you currently have an Afghanistan TPS-based EAD that has the notation A-12 or C-19 under Category and a “Card Expires” date of November 20, 2023, this Federal Register notice automatically extends your EAD through November 20, 2024. Although this Federal Register notice automatically extends your EAD through November 20, 2024, you must re-register timely for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for further information. If your EAD states A-12 or C-19 under Category and has a “Card Expires” date of November 20, 2023, it has been extended automatically by virtue of this Federal Register notice and you may choose to present your EAD to your employer as proof of identity and employment eligibility for Form I-9 through November 20, 2024, unless your TPS has been withdrawn or your request for TPS has been denied. Your country of birth notated on the EAD does not have to reflect the TPS designated country of Afghanistan for you to be eligible for this extension.

What documentation may I present to my employer for Form I-9 if I am already employed but my current TPS-related EAD is set to expire?

Even though we have automatically extended your EAD, your employer is required by law to ask you about your continued employment authorization. Your employer may need to re-examine your automatically extended EAD to check the “Card Expires” date and Category code if your employer did not keep a copy of your EAD when you initially presented it. Once your employer has reviewed the Card Expiration date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through November 20, 2024, but you are not required to do so. The last day of the automatic EAD extension is November 20, 2024. Before you start work on November 21, 2024, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through May 20, 2025, then you must file Form I-765, Application for Employment Authorization, and pay the associated fee (unless USCIS grants your fee waiver request).

Can my employer require that I provide any other documentation such as evidence of my status, proof of my Afghan citizenship, or a Form I-797C showing that I registered for TPS for Form I-9 completion?

No. When completing Form I-9, employers must accept any documentation you choose to present from the Form I-9 Lists of Acceptable Documents that reasonably appears to be genuine and that relates to you, or an acceptable List A, List B, or List C receipt. Employers may not request proof of Afghan citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before November 21, 2024:

1. For Section 1, you should:

a. Check “A noncitizen authorized to work until” and enter November 20, 2024, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of November 20, 2023;

b. Write in the document title;

c. Enter the issuing authority;

d. Provide the document number; and

e. Write November 20, 2024, as the expiration date.

Before the start of work on November 21, 2024, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine if your EAD is automatically extended by ensuring that it contains Category A-12 or C-19 and has a “Card Expires” date of November 20, 2023. Your employer may not rely on the country of birth listed on the card to determine whether you are eligible for this extension.

If your employer determines that USCIS has automatically extended your EAD, your employer should update Section 2 of your previously completed Form I-9 as follows:

1. Write EAD EXT and November 20, 2024, as the last day of the automatic extension in the Additional Information field; and

2. Initial and date the correction.

Note: This is not considered a reverification. Employers do not reverify the employee until either the automatic extension has ended, or the employee presents a new document to show continued employment authorization, whichever is sooner. By November 21, 2024, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter November 20, 2024, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on November 21, 2024, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Afghanistan;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation regarding which document(s) the agency will accept. Some state and local government agencies use the SAVE program to confirm the current immigration status of applicants for public benefits.

While SAVE can verify that an individual has TPS, each agency's procedures govern whether they will accept an unexpired EAD, Form I-797, Form I-797C, or Form I-94, Arrival/Departure Record. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (such as A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save, has detailed information on how to make corrections or update your immigration record, make an appointment, or submit a written request to correct records.

[FR Doc. 2023-20791 Filed 9-21-23; 4:15 pm]

BILLING CODE 9111-97-P